DEPARTMENT OF HOMELAND SECURITY

Coast Guard

[Docket No. USCG-2013-1089]

Merchant Marine Personnel Advisory Committee

AGENCY: Coast Guard, DHS.

ACTION: Notice of federal advisory committee meeting.

SUMMARY: The Merchant Marine Personnel Advisory Committee (MERPAC) will meet on March 11, 2014 and March 12, 2014 in Dania Beach, FL, to discuss various issues related to the training and fitness of merchant marine personnel. This meeting will be open to the public.

DATES: MERPAC working groups will meet on March 11, 2014, from 8 a.m. until 4 p.m., and the full committee will meet on March 12, 2014, from 8 a.m. until 4 p.m. Please note that this meeting may adjourn early if all business is finished.

ADDRESSES: The Committee will meet in Room 217 of the STAR Center, 2 West Dixie Highway, Dania Beach, FL 33004. Please be advised all attendees will be required to provide identification in the form of a government-issued picture identification card in order to gain admittance to the facility. For further information on the location of the STAR Center, please contact Mr. Graeme Holman at (954) 921-7254 Ext. 7172 as soon as possible.

For information on facilities or services for individuals with disabilities or to request special assistance, please contact Mr. Mark Gould, Alternate Designated Federal Officer (ADFO), telephone 202-372-1409, or at mark.c.gould@uscg.mil.

To facilitate public participation, we are inviting public comment on the issues to be considered by the committee and working groups as listed in the “Agenda” section below. Written comments for distribution to committee members and inclusion on MERPAC Web site must be submitted on or before February, 25, 2014. Written comments must be identified by Docket No. USCG-2013-1089 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov, enter the docket number in the “Search” field and follow the instructions on the Web site.

Public oral comment periods will be held each day. Speakers are requested to limit their comments to 3 minutes. Please note that the public oral comment periods may end before the prescribed ending time following the last call for comments. Contact Mr. Mark Gould as indicated below to register as a speaker.

This notice may be viewed in our online docket, USCG-2013-1089, at http://www.regulations.gov.

FOR FURTHER INFORMATION CONTACT: Mr. Mark Gould, Alternate Designated Federal Officer (ADFO), telephone 202-372-1409, or at mark.c.gould@uscg.mil. If you have any questions on viewing or submitting material to the docket, call Barbara Hairston, Program Manager, Docket Operations, telephone 202-366-9826.

SUPPLEMENTARY INFORMATION: Notice of this meeting is given under the Federal Advisory Committee Act (FACA), Title 5, United States Code, Appendix (Pub. L. 92-463).

MERPAC is an advisory committee established under the Secretary's authority in section 871 of the Homeland Security Act of 2002, Title 6, United States Code, section 451, and chartered under the provisions of the FACA. The Committee acts solely in an advisory capacity to the Secretary of the Department of Homeland Security (DHS) through the Commandant of the Coast Guard and the Director of Commercial Regulations and Standards on matters relating to personnel in the U.S. merchant marine, including but not limited to training, qualifications, certification, documentation, and fitness standards. The Committee will advise, consult with, and make recommendations reflecting its independent judgment to the Secretary.

A copy of all meeting documentation is available at https://homeport.uscg.mil/merpac and then use the announcements key. Alternatively, you may contact Mr. Mark Gould as noted in the FOR FURTHER INFORMATION CONTACT section above.

Agenda

Day 1

The agenda for the March 11, 2014, meeting is as follows:

(1) The full committee will meet briefly to discuss the working groups' business/task statements, which are listed under paragraph 2 (a)-(g) below.

(2) Working groups addressing the following task statements, available for viewing at http://homeport.uscg.mil/merpac, will meet to deliberate:

(a) Task Statement 30, Utilizing Military Education, Training and Assessment for the International Convention on Standards of Training, Certification and Watchkeeping for Seafarers (STCW) and U.S. Coast Guard Certifications;

(b) Task Statement 58, Communication between External Stakeholders and the Mariner Credentialing Program, as it Relates to the National Maritime Center;

(c) Task Statement 78, Consideration of the International Labour Organization's Maritime Labour Convention, 2006;

(d) Task Statement 80, Crew Training Requirements Onboard Natural Gas-Fueled Vessels Other Than Liquefied Natural Gas Carriers;

(e) Task Statement 81, Development of Competency Requirements for Vessel Personnel Working Within the Polar Regions;

(f) Task Statement 83, Development of Competency Requirements to meet STCW Chief Engineer III/2 for Personnel Working on Small Vessels with High Horsepower; and

(g) Task Statement 85, Correction of Merchant Mariner Credentials issued with Clear Errors.

(3) Public comment period.

(4) Reports of working groups. At the end of the day, the working groups will report to the full committee on what was accomplished in their meetings. The full committee will not take action on these reports on this date. Any official action taken as a result of this working group meeting will be taken on day 2 of the meeting.

(5) Adjournment of meeting.

Day 2

The agenda for the March 12, 2014, committee meeting is as follows:

(1) Introduction;

(2) Remarks from Coast Guard Leadership;

(3) Swearing in of new members.

(4) Roll call of committee members and determination of a quorum;

(4) Designated Federal Officer (DFO) announcements;

(5) Reports from the following working groups;

(a) Task Statement 30, Utilizing Military Education, Training and Assessment for STCW and U.S. Coast Guard Certifications;

(b) Task Statement 58, Communication between External Stakeholders and the Mariner Credentialing Program, as it Relates to the National Maritime Center;

(c) Task Statement 78, Consideration of the International Labour Organization's Maritime Labour Convention, 2006;

(d) Task Statement 80, Crew Training Requirements Onboard Natural Gas-Fueled Vessels Other Than Liquefied Natural Gas Carriers;

(e) Task Statement 81, Development of Competency Requirements for Vessel Personnel Working Within the Polar Regions;

(f) Task Statement 83, Development of Competency Requirements to meet STCW Chief Engineer III/2 for Personnel Working on Small Vessels with High Horsepower; and

(g) Task Statement 85, Correction of Merchant Mariner Credentials issued with Clear Errors.

(6) Other items for discussion:

(a) Report on National Maritime Center (NMC) activities from NMC Commanding Officer, such as the net processing time it takes for a mariner to receive his or her credential after application submittal;

(b) Report on Mariner Credentialing Program Policy Division activities, such as its current initiatives and projects;

(c) Report on International Maritime Organization (IMO)/International Labour Organization (ILO) issues related to the merchant marine industry;

(d) Report on the implementation of the 2010 amendments to the STCW Convention; and

(e) Briefings about on-going Coast Guard projects related to personnel in the U.S. Merchant Marine, such as proposed Task Statements concerning:

Implementation of the Amendments to the International Convention on Standards of Training, Certification and Watchkeeping for Seafarers, 1978, and Changes to National Endorsements; and Training of Personnel and Manning on Mobile Offshore Units (MOUs) and Offshore Supply Vessels (OSVs) on the United States' Outer Continental Shelf (OCS); and

(7) Public comment period/presentations.

(8) Discussion of working group recommendations. The committee will review the information presented on each issue, deliberate on any recommendations presented by the working groups and approve/formulate recommendations for the Department's consideration. Official action on these recommendations may be taken on this date.

(9) Closing remarks/plans for next meeting.

(10) Adjournment of meeting.

A copy of all meeting documentation is available at http://homeport.uscg.mil/merpac. Alternatively, you may contact Mr. Mark Gould as noted in the FOR FURTHER INFORMATION CONTACT section above.

Dated: January 15, 2014.
J.G. Lantz,
Director of Commercial Regulations and Standards.

[FR Doc. 2014-01599 Filed 1-27-14; 8:45 am]

BILLING CODE 9110-04-P